FEDERAL MARITIME COMMISSION

[Docket No. 04-03]

Nick International Shipping, Inc. and Olimpia Sandoval a.k.a Marisela Cordero—Possible Violations of Sections 8(a) and 19 of the Shipping Act of 1984, as Well as the Commission's Regulations at 46 CFR Parts 515 and 520; Notice of Investigation and Hearing

Notice is given that on February 9, 2004, the Federal Maritime Commission served an Order of Investigation and Hearing on Nick International Shipping, Inc. (“Nick”) and Olimpia Sandoval a.k.a. Marisela Cordero (“Olimpia Sandoval”). Nick was incorporated in the State of New York on March 24, 1994, and is presently located at 1841 Carter Avenue, Bronx, New York 10457. Ms. Olimpia Sandoval occupies the position of President of Nick and owns 75% of the capital stock. The other 25% of the stock is owned by Mr. Nicholas Sandoval who occupies the position of Vice President. Nick appears to be an ocean transportation intermediary (“OTI”) operating as an unlicensed, unbonded, and untariffed non-vessel-operating common carrier (“NVOCC”) primarily in the trade between the United States and the Dominican Republic.

Based on evidence available to the Commission, it appears that, from at least August 14, 2000, Nick knowingly and willfully operated as a common carrier without publishing a tariff showing all of its active rates and charges. Moreover, it appears that Nick has knowingly and willfully provided transportation services as an NVOCC with respect to numerous shipments from at least August 14, 2000, without obtaining an OTI license from the Commission and without providing proof of financial responsibility.

This proceeding, therefore, seeks to determine whether: (1) Whether Nick International Shipping, Inc. violated section 8(a) of the 1984 Act and the Commission's regulations at 46 CFR part 520 by operating as a common carrier without publishing a tariff showing all of its active rates and charges; (2) whether Nick International Shipping, Inc. and Olimpia Sandoval a.k.a. Marisela Cordero violated section 19 of the 1984 Act and the Commission's regulations at 46 CFR part 515 by operating as non-vessel-operating common carriers in the U.S. trades without obtaining licenses from the Commission and without providing proof of financial responsibility; (3) whether, in the event violations of sections 8(a) and 19 of the 1984 Act and/or 46 CFR parts 515 and 520 are found, civil penalties should be assessed against Nick International Shipping, Inc. and Olimpia Sandoval a.k.a. Marisela Cordero and, if so, the amount of the penalties to be assessed; and (4) whether, in the event violations are found, appropriate cease and desist orders should be issued against Nick International Shipping, Inc. and Olimpia Sandoval a.k.a. Marisela Cordero.

The full text of the Order may be viewed on the Commission's home page at www.fmc.gov or at the Office of the Secretary, Room 1046, 800 North Capitol Street, NW., Washington, DC. Any person may file a petition for leave to intervene in accordance with 46 CFR 502.72.

Dated: February 10, 2004.
Bryant L. VanBrakle,
Secretary.

[FR Doc. 04-3588 Filed 2-18-04; 8:45 am]

BILLING CODE 6730-01-P